ENVIRONMENTAL PROTECTION AGENCY

[FRL OP-OFA-084]

Environmental Impact Statements; Notice of Availability

Responsible Agency: Office of Federal Activities, General Information 202-564-5632 or https://www.epa.gov/nepa.

Weekly receipt of Environmental Impact Statements (EIS)

Filed August 21, 2023 10 a.m. EST Through August 28, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230108, Final, USDA, OR, Predator Damage Management in Oregon, Review Period Ends: 10/02/2023, Contact: Kevin Christnesen 503-820-2851.

EIS No. 20230109, Draft, NOAA, CA, Proposed Chumash Heritage National Marine Sanctuary, Comment Period Ends: 10/25/2023, Contact: Paul Michel 831-647-4201.

EIS No. 20230110, Final, TxDOT, TX, I-35 Capital Express Central Project, Contact: Doug Booher 512-416-2663.

Under 23 U.S.C. 139(n)(2), TxDOT has issued a single document that consists of a final environmental impact statement and record of decision. Therefore, the 30-day wait/review period under NEPA does not apply to this action.

Dated: August 28, 2023.
Cindy S. Barger,
Director, NEPA Compliance Division, Office of Federal Activities.

[FR Doc. 2023-18938 Filed 8-31-23; 8:45 am]

BILLING CODE 6560-50-P